DEPARTMENT OF HOUSING AND URBAN DEVELOPMENT

[Docket No. FR-5909-N-13]

30-Day Notice of Proposed Information Collection: FHA Lender Approval, Annual Renewal, Periodic Updates and Required Reports by FHA-Approved Lenders

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: April 14, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A. The Federal Register notice that solicited public comment on the information collection for a period of 60 days was published on September 1, 2015 at 80 FR 52781.

A. Overview of Information Collection

Title of Information Collection: FHA Lender Approval, Annual Renewal, Periodic Updates and Required Reports by FHA-Approved Lenders.

OMB Approval Number: 2502-0005.

Type of Request: Revision of currently approved collection.

Form Number: Online Application for Lender Approval (previously HUD-92001-A) and Annual Certification.

Description of the need for the information and proposed use: The Secretary of the Department of Housing and Urban Development is authorized to insure lenders and mortgagees against the risk of loss in connection with certain mortgages under Titles I and II of the National Housing Act, 12 U.S.C. 1702 et seq. The Secretary is also authorized to prescribe criteria for approval of these lenders and mortgagees to participate in the Department's insured housing programs, including certain statutory and regulatory eligibility requirements set forth in 12 U.S.C. 1702(d)(2) and 24 CFR 202.5. See 12 U.S.C. 1702 et seq. and 42 U.S.C. 3535(d). Criteria for approval to become a Title I and/or Title II Mortgagee are specified in 24 CFR 202 and HUD Handbook 4000.1. Once approved, FHA lenders must provide additional information on an annual basis and within specified timeframes of certain events or business changes in order to maintain their FHA approval. Lenders already approved by FHA submit this information annually using the Lender Electronic Assessment Portal (LEAP), which is accessed via FHA Connection. Prospective lender applicants submit this information electronically using the Online Application for Lender Approval, which is accessed via the hud.gov Web site. The information is used by FHA to verify that lenders meet all approval and eligibility requirements. It is also used to assist FHA in managing its financial risks and to protect consumers from lender noncompliance with FHA regulations. Proposed revisions to the annual certification statements included in FHA's Lender Electronic Assessment Portal (LEAP) and the initial certification statements included in FHA's Online Application for Lender Approval, as well as HUD's responses to comments received from the 60-day notice, are available on HUD's Web site at: http://portal.hud.gov/hudportal/HUD?src=/program_offices/housing/sfh/SFH_policy_drafts.

Respondents: Regulatory or compliance.

Estimated Number of Respondents: 3,115.

Estimated Number of Responses: 13,260.

Frequency of Response: Annual/Periodic.

Average Hours per Response: 1.00 hour.

Total Estimated Burdens: 13,320 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: March 10, 2016.
Colette Pollard,
Department Reports Management Officer, Office of the Chief Information Officer.

[FR Doc. 2016-05779 Filed 3-14-16; 8:45 am]

BILLING CODE 4210-67-P